DEPARTMENT OF AGRICULTURE

Animal and Plant Health Inspection Service

9 CFR Part 11

[Docket No. APHIS-2011-0006]

Horse Protection Act; Petition for Amendments to Regulations

AGENCY: Animal and Plant Health Inspection Service, USDA.

ACTION: Notice.

SUMMARY: We are notifying the public that the Animal and Plant Health Inspection Service has received a petition requesting changes to our horse protection regulations and our current enforcement practices and related policies regarding those regulations. We are making this petition available to the public for review and comment. We are noting, however, that certain requests in the petition lack authority in the Horse Protection Act to implement.

DATES: We will consider all comments that we receive on or before June 13, 2011.

ADDRESSES: You may submit comments by either of the following methods:

• Federal eRulemaking Portal: Go to http://www.regulations.gov/fdmspublic/component/main?main=DocketDetail&d=APHIS-2011-0006 to submit or view comments and to view supporting and related materials available electronically.

• Postal Mail/Commercial Delivery: Please send one copy of your comment to Docket No. APHIS-2011-0006, Regulatory Analysis and Development, PPD, APHIS, Station 3A-03.8, 4700 River Road, Unit 118, Riverdale, MD 20737-1238. Please state that your comment refers to Docket No. APHIS-2011-0006.

Reading Room: You may read any comments that we receive on the petition in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Rachel Cezar, Horse Protection Program National Coordinator, Animal Care, APHIS, 4700 River Road, Unit 84, Riverdale, MD 20737-1238; (301) 734-5784.

SUPPLEMENTARY INFORMATION:

Background

The Horse Protection Act (HPA, 15 U.S.C. 1821-1831) authorizes the Secretary of Agriculture to promulgate regulations prohibiting the showing, exhibition, transport, or sale of horses subjected to soring, a practice of accentuating a horses' gait through the infliction of pain. The Secretary of Agriculture has delegated the responsibility for enforcing the HPA to the Administrator of the Animal and Plant Health Inspection Service (APHIS). Exercising its rulemaking authority under the Act, APHIS enforces regulations that are contained in 9 CFR part 11, referred to below as the regulations, that prohibit, among other things, devices and methods that might sore horses.

In a petition sent on August 4, 2010, The Humane Society of the United States, the American Society for the Prevention of Cruelty to Animals, the American Horse Protection Association, Inc., Friends of Sound Horses, Inc., and former Senator Joseph D. Tydings (referred to below as the petitioners) requested that APHIS change its regulations and policies regarding the protection of horses from the practice of soring. The petitioners' requests included permanently disqualifying horses that have been scarred from soring from competitions, permanently disqualifying repeat violators of the HPA, requiring horse industry organizations to impose minimum penalties for violations, and decertifying noncompliant horse industry organizations.

The HPA does not provide APHIS with the authority to implement certain requests in the petition. Specifically, APHIS does not have the authority under the HPA to permanently disqualify horses that have been scarred from soring from competitions, nor does APHIS have the authority to permanently disqualify repeat violators of the HPA. The disqualification provisions and penalty provisions are clearly enumerated in the HPA.

You may review the petition and submit comments through the Regulations.gov Web site (see ADDRESSES above for instructions for accessing Regulations.gov). We welcome all comments on the issues outlined in the petition. We are particularly interested in receiving comments regarding those areas where APHIS has existing authority under the HPA. We encourage the submission of scientific data, studies, or research to support your comments and position, including scientific data or research that supports any industry or professional standards that pertain to horse care. We also invite data on the costs and benefits associated with any recommendations. We will consider all comments and recommendations we receive.

Authority: 15 U.S.C. 1823-1825 and 1828; 7 CFR 2.22, 2.80, and 371.7.

Done in Washington, DC, this 7th day of April 2011.
Gregory L. Parham,
Acting Administrator, Animal and Plant Health Inspection Service.

[FR Doc. 2011-8773 Filed 4-12-11; 8:45 am]

BILLING CODE 3410-34-P